DEPARTMENT OF ENERGY

Federal Energy Regulatory Commission

Combined Notice of Filings

Take notice that the Commission has received the following Natural Gas Pipeline Rate and Refund Report filings:

Filings Instituting Proceedings

Docket Numbers: RP17-730-000.

Applicants: Great Lakes Gas Transmission Limited Par.

Description: Operational Purchases and Sales Report of Great Lakes Gas Transmission LP.

Filed Date: 05/01/2017.

Accession Number: 20170501-5456.

Comment Date: 5:00 p.m. Eastern Time on Monday, May 15, 2017.

Docket Numbers: RP17-731-000.

Applicants: Blue Lake Gas Storage Company.

Description: Operational Purchases and Sales Report of Blue Lake Gas Storage Company.

Filed Date: 05/01/2017.

Accession Number: 20170501-5457.

Comment Date: 5:00 p.m. Eastern Time on Monday, May 15, 2017.

Docket Numbers: RP17-732-000.

Applicants: Bison Pipeline LLC.

Description: Operational Purchases and Sales Report of Bison Pipeline LLC.

Filed Date: 05/01/2017.

Accession Number: 20170501-5458.

Comment Date: 5:00 p.m. Eastern Time on Monday, May 15, 2017.

Docket Numbers: RP17-733-000.

Applicants: ANR Storage Company.

Description: Operational Purchases and Sales Report of ANR Storage Company.

Filed Date: 05/01/2017.

Accession Number: 20170501-5459.

Comment Date: 5:00 p.m. Eastern Time on Monday, May 15, 2017.

Docket Numbers: RP17-734-000.

Applicants: ANR Pipeline Company.

Description: Operational Purchases and Sales Report of ANR Pipeline Company.

Filed Date: 05/01/2017.

Accession Number: 20170501-5460.

Comment Date: 5:00 p.m. Eastern Time on Monday, May 15, 2017.

Docket Numbers: RP17-735-000.

Applicants: ANR Pipeline Company.

Description: Annual Cashout Surcharge Report of ANR Storage Company.

Filed Date: 05/01/2017.

Accession Number: 20170501-5461.

Comment Date: 5:00 p.m. Eastern Time on Monday, May 15, 2017.

Docket Numbers: RP17-736-000.

Applicants: Northern Border Pipeline Company.

Description: Operational Purchases and Sales Report of Northern Border Pipeline Company.

Filed Date: 05/01/2017.

Accession Number: 20170501-5471.

Comment Date: 5:00 p.m. Eastern Time on Monday, May 15, 2017.

Docket Numbers: RP16-975-001.

Applicants: Venice Gathering System, L.L.C.

Description: Venice Gathering System, L.L.C. submits tariff filing per 385.602: Motion to Place Interim Settlement Rates Into Effect to be effective 6/1/2017.

Filed Date: 05/05/2017.

Accession Number: 20170505-5084.

Comment Date: 5:00 p.m. Eastern Time on Wednesday, May 17, 2017.

Docket Numbers: RP17-724-000.

Applicants: Venice Gathering System, L.L.C.

Description: Venice Gathering System, L.L.C. submits tariff filing per 154.205(a): Motion to Withdraw Filing.

Filed Date: 05/05/2017.

Accession Number: 20170505-5170.

Comment Date: 5:00 p.m. Eastern Time on Wednesday, May 17, 2017.

Docket Numbers: RP17-737-000.

Applicants: Equitrans, L.P.

Description: Equitrans, L.P. submits tariff filing per 154.204: Equitrans' Clean-Up Filing—May 2017 to be effective 6/5/2017.

Filed Date: 05/05/2017.

Accession Number: 20170505-5026.

Comment Date: 5:00 p.m. Eastern Time on Wednesday, May 17, 2017.

Docket Numbers: RP17-738-000.

Applicants: Transcontinental Gas Pipe Line Company.

Description: Transcontinental Gas Pipe Line Company, LLC submits tariff filing per 154.203: Refund Report—Texas Eastern OFO Penalty Disbursment (Rate Schedule S-2).

Filed Date: 05/05/2017.

Accession Number: 20170505-5041.

Comment Date: 5:00 p.m. Eastern Time on Wednesday, May 17, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2017.
Kimberly D. Bose,
Secretary.

[FR Doc. 2017-09672 Filed 5-11-17; 8:45 am]

BILLING CODE 6717-01-P